ENVIRONMENTAL PROTECTION AGENCY

40 CFR Parts 52 and 81

[UT-001-0022b, UT-001-0024b, UT-001-0025b, UT-001-0026b, UT-001-0027b, UT-001-0030b, UT-001-0031b; FRL-6889-1]

Approval and Promulgation of Air Quality Implementation Plans; State of Utah; Ogden City Carbon Monoxide Redesignation to Attainment, Designation of Areas for Air Quality Planning Purposes, and Approval of Revisions to the Oxygenated Gasoline Program

AGENCY: Environmental Protection Agency (EPA).

ACTION: Proposed rule.

SUMMARY: On December 9, 1996, the Governor of Utah submitted a request to redesignate the Ogden City “moderate” carbon monoxide (CO) nonattainment area to attainment for the CO National Ambient Air Quality Standard (NAAQS). The Governor also submitted a CO maintenance plan. In addition, on July 8, 1998, the Governor submitted revisions to Utah's Rule R307-8 “Oxygenated Gasoline Program”. In this action, EPA is proposing approval of the Ogden City CO redesignation request, the maintenance plan, and the revisions to Rule R307-8. In the Final Rules Section of this Federal Register, EPA is approving the State's redesignation request and State Implementation Plan (SIP) revisions, involving the maintenance plan and the changes to Rule R307-8, as a direct final rule without prior proposal because the Agency views the redesignation and SIP revisions as noncontroversial and anticipates no adverse comments. A detailed rationale for the approval is set forth in the direct final rule. If no adverse comments are received in response to this proposed rule, no further activity is contemplated in relation to this rule. If EPA receives adverse comments, the direct final rule will be withdrawn and all public comments received will be addressed in a subsequent final rule based on this proposed rule. EPA will not institute a second comment period on this action. Any parties interested in commenting on this action should do so at this time.

DATES: Comments on this proposed rule must be received in writing by April 9, 2001.

ADDRESSES: Written comments may be mailed to: Richard R. Long, Director, Air and Radiation Program, Mailcode 8P-AR, United States Environmental Protection Agency, Region VIII, 999 18th Street, Suite 300, Denver, Colorado 80202-2466.

Copies of the documents relevant to this action are available for public inspection between 8 a.m. and 4 p.m., Monday through Friday at the following office: United States Environmental Protection Agency, Region VIII, Air Program, 999 18th Street, Suite 300, Denver, Colorado 80202-2466.

FOR FURTHER INFORMATION CONTACT: Tim Russ, Air and Radiation Program, Mailcode 8P-AR, United States Environmental Protection Agency, Region VIII, 999 18th Street, Suite 300, Denver, Colorado 80202-2466; Telephone number (303) 312-6479.

SUPPLEMENTARY INFORMATION: See the information provided in the Direct Final action of the same title which is located in the Rules section of this Federal Register.

Dated: October 4, 2000.
William P. Yellowtail,
Regional Administrator, Region VIII.

[FR Doc. 01-5853 Filed 3-8-01; 8:45 am]

BILLING CODE 6560-50-U